DEPARTMENT OF HEALTH AND HUMAN SERVICES

Health Resources and Services Administration

Advisory Committee on Infant Mortality; Notice of Meeting

In accordance with section 10(a)(2) of the Federal Advisory Committee Act (Public Law 92-463), notice is hereby given of the following meeting:

Name: Advisory Committee on Infant Mortality (ACIM).

Dates and Times: July 13, 2006, 9 a.m.-5 p.m.; July 14, 2006, 8:30 a.m.-3 p.m.

Place: Key Bridge Marriott, 1401 Lee Highway, Arlington, VA 22209, (703) 524-6400.

Status: The meeting is open to the public with attendance limited to space availability.

Purpose: The Committee provides advice and recommendations to the Secretary of Health and Human Services on the following: Department programs that are directed at reducing infant mortality and improving the health status of pregnant women and infants; factors affecting the continuum of care with respect to maternal and child health care, including outcomes following childbirth; strategies to coordinate the variety of Federal, State, local and private programs and efforts that are designed to deal with the health and social problems impacting on infant mortality; and the implementation of the Healthy Start program and Healthy People 2010 infant mortality objectives.

Agenda: Topics that will be discussed include the following: Preterm birth; Medicaid Policy; Pregnancy Weight; and the Perinatal and Patient Safety Pilot Program. Substantial time will be spent in Subcommittee and full Committee discussions aimed at formulating the ACIM issues agenda. Proposed agenda items are subject to change as priorities indicate.

Time will be provided for public comments limited to five minutes each; comments are to be submitted no later than June 19, 2006.

For Further Information Contact: Anyone requiring information regarding the Committee should contact Peter C. van Dyck, M.D., M.P.H., Executive Secretary, ACIM, Health Resources and Services Administration (HRSA), Room 18-05, Parklawn Building, 5600 Fishers Lane, Rockville, MD 20857, Telephone: (301) 443-2170.

Individuals who are submitting public comments or who have questions regarding the meeting and location should contact Michelle Loh, HRSA, Maternal and Child Health Bureau, telephone: (301) 443-0543, e-mail: michelle.loh@hrsa.hhs.gov.

Dated: May 15, 2006.
Tina M. Cheatham,
Director, Division of Policy Review and Coordination.

[FR Doc. E6-7662 Filed 5-18-06; 8:45 am]

BILLING CODE 4165-15-P